DEPARTMENT OF DEFENSE

Office of the Secretary

Charter Renewal of Department of Defense Federal Advisory Committees—Board of Actuaries

AGENCY: Department of Defense (DoD).

ACTION: Charter renewal of Federal advisory committee.

SUMMARY: The DoD is publishing this notice to announce that it is renewing the charter for the Department of Defense Board of Actuaries (“DoD BoA”).

FOR FURTHER INFORMATION CONTACT: Jim Freeman, Advisory Committee Management Officer for the DoD, 703-692-5952.

SUPPLEMENTARY INFORMATION: The DoD BoA's charter is being renewed in accordance with chapter 10 of title 5 United States Code (U.S.C.) (commonly known as the “Federal Advisory Committee Act” or “FACA”), 5 U.S.C. 552b (commonly known as the “Government in the Sunshine Act”), and 41 CFR 102-3.50(a). The charter and contact information for the DoD BoA's Designated Federal Officer (DFO) can be found at https://www.facadatabase.gov/FACA/apex/FACAPublicAgencyNavigation.

The DoD BoA provides independent advice and recommendations on matters relating to the DoD Military Retirement Fund, the DoD Education Fund, the DoD Voluntary Separation Incentive Fund, and such other funds as the Secretary of Defense shall specify.

Pursuant to 10 U.S.C. 183(b), the DoD BoA shall consist of three members from among qualified professional actuaries who are members of the Society of Actuaries. All members of the DoD BoA are appointed to provide advice on behalf of the Government on the basis of their best judgment without representing any particular point of view and in a manner that is free from conflict of interest. A member of the DoD BoA who is not an employee of the United States is entitled to receive pay at the daily equivalent of the annual rate of basic pay of the highest rate of basic pay under the General Schedule of subchapter III of chapter 53 of title 5 U.S.C., for each day the member is engaged in the performance of duties vested in the DoD BoA. All members are entitled to reimbursement for official DoD BoA-related travel and per diem.

The public or interested organizations may submit written statements to the DoD BoA membership about the DoD BoA's mission and functions. Written statements may be submitted at any time or in response to the stated agenda of a planned meeting of the DoD BoA. All written statements shall be submitted to the DFO for the DoD BoA, and this individual will ensure that the written statements are provided to the membership for their consideration.

Dated: June 27, 2024.
Aaron T. Siegel,
Alternate OSD Federal Register Liaison Officer, Department of Defense.

[FR Doc. 2024-14565 Filed 7-1-24; 8:45 am]

BILLING CODE 6001-FR-P